DEPARTMENT OF THE TREASURY

Submission for OMB Review; Comment Request

March 17, 2016.

The Department of the Treasury will submit the following information collection request to the Office of Management and Budget (OMB) for review and clearance in accordance with the Paperwork Reduction Act of 1995, Public Law 104-13, on or after the date of publication of this notice.

DATES: Comments should be received on or before April 21, 2016 to be assured of consideration.

ADDRESSES: Send comments regarding the burden estimates, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submission may be obtained by emailing PRA@treasury.gov, calling (202) 622-1295, or viewing the entire information collection request at www.reginfo.gov.

Departmental Offices

OMB Control Number: 1505-NEW.

Type of Review: New information collection.

Title: Information Collection for Research to Evaluate the Effectiveness of the Thrive `n' Shine Financial Capability Curriculum and Application.

Abstract: The Department of the Treasury, Office of Consumer Policy, will use a combination of in-person interviews and web-based products to survey high school students and classroom teachers from approximately two high schools to participate in the evaluation of the Thrive `n' Shine Financial Capability curriculum and technology application (app). The information collection is planned to be implemented in the classroom setting in spring 2016. The data collected will be used to evaluate the effectiveness of the new financial capability curriculum and app.

Affected Public: Individuals and households.

Estimated Total Annual Burden Hours: 806.

Brenda Simms,
Treasury PRA Clearance Officer.

[FR Doc. 2016-06415 Filed 3-21-16; 8:45 am]

BILLING CODE 4810-25-P